ENVIRONMENTAL PROTECTION AGENCY

[FRL-10488-01-OA]

Farm, Ranch, and Rural Communities Advisory Committee (FRRCC); Notice of Public Meeting

AGENCY: Environmental Protection Agency (EPA).

ACTION: Notice of meeting.

SUMMARY: Pursuant to the Federal Advisory Committee Act (FACA), notice is hereby given that the next meeting of the Farm, Ranch, and Rural Communities Advisory Committee (FRRCC) will be held virtually and in-person on January 17 and 18, 2023, at the U.S. Environmental Protection Agency (EPA) Headquarters located at 1200 Pennsylvania Avenue NW, Washington, DC 20460. The FRRCC provides independent policy advice, information, and recommendations to the Administrator on a range of environmental issues and policies that are of importance to agriculture and rural communities.

DATES: This public meeting will be held from Tuesday, January 17, 2023, through Wednesday, January 18, 2023, from approximately 10:00 a.m. to 5:00 p.m. ET.

ADDRESSES: This meeting will take place virtually and in-person. To register and receive information on how to listen to the meeting and to provide comments, please visit: www.epa.gov/faca/frrcc. Attendees must register online to receive instructions for virtual attendance. To attend in-person, attendees are encouraged to register online and may also register at the door.

FOR FURTHER INFORMATION CONTACT: Venus Welch-White, Designated Federal Officer (DFO), at FRRCC@epa.gov or 202-566-2369. General information regarding the FRRCC can be found on the EPA website at: www.epa.gov/faca/frrcc.

SUPPLEMENTARY INFORMATION: Meetings of the FRRCC are open to the public. An agenda will be posted at www.epa.gov/faca/frrcc.

Access and Accommodations: For information on access or services for individuals with disabilities, please visit: www.epa.gov/faca/frrcc.

Rodney Snyder,
Senior Advisor for Agriculture, U.S. Environmental Protection Agency.

[FR Doc. 2022-27859 Filed 12-22-22; 8:45 am]

BILLING CODE 6560-50-P